DEPARTMENT OF HEALTH AND HUMAN SERVICES

Administration for Community Living

[CFDA Number: 84.133B-1]

Proposed Priority—National Institute on Disability, Independent Living, and Rehabilitation Research—Rehabilitation Research and Training Centers

AGENCY: Administration for Community Living, HHS.

ACTION: Notice of proposed priority.

SUMMARY: The Administrator of the Administration for Community Living proposes a priority for the Rehabilitation Research and Training Center (RRTC) Program administered by the National Institute on Disability, Independent Living, and Rehabilitation Research (NIDILRR). Specifically, this notice proposes a priority for an RRTC on Employer Practices Leading to Successful Employment Outcomes for Individuals with Disabilities. We take this action to focus research attention on an area of national need. We intend this priority to contribute to improved employment practices and successful employment outcomes for individuals with disabilities.

DATES: We must receive your comments on or before March 27, 2015.

ADDRESSES: Submit your comments through the Federal eRulemaking Portal or via postal mail or commercial delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail or Commercial Delivery: If you mail or deliver your comments about these proposed regulations, address them to Patricia Barrett, U.S. Department of Health and Human Services, 400 Maryland Avenue SW., Room 5142, Potomac Center Plaza (PCP), Washington, DC 20202-2700.

Privacy Note: The Department's policy is to make all comments received from members of the public available for public viewing in their entirety on the Federal eRulemaking Portal at www.regulations.gov. Therefore, commenters should be careful to include in their comments only information that they wish to make publicly available.

FOR FURTHER INFORMATION CONTACT: Patricia Barrett. Telephone: (202) 245-6211 or by email: patricia.barrett@ed.gov.

If you use a telecommunications device for the deaf (TDD) or a text telephone (TTY), call the Federal Relay Service (FRS), toll free, at 1-800-877-8339.

SUPPLEMENTARY INFORMATION: This notice of proposed priority is in concert with NIDILRR's currently approved Long-Range Plan (Plan). The Plan, which was published in the Federal Register on April 4, 2013 (78 FR 20299), can be accessed on the Internet at the following site: www.ed.gov/about/offices/list/osers/nidrr/policy.html.

The Plan identifies a need for research and training regarding employment of individuals with disabilities. To address this need, NIDILRR seeks to: (1) Improve the quality and utility of disability and rehabilitation research; (2) foster an exchange of research findings, expertise, and other information to advance knowledge and understanding of the needs of individuals with disabilities and their family members, including those from among traditionally underserved populations; (3) determine effective practices, programs, and policies to improve community living and participation, employment, and health and function outcomes for individuals with disabilities of all ages; (4) identify research gaps and areas for promising research investments; (5) identify and promote effective mechanisms for integrating research and practice; and (6) disseminate research findings to all major stakeholder groups, including individuals with disabilities and their family members in formats that are appropriate and meaningful to them.

This notice proposes one priority that NIDILRR intends to use for one or more competitions in fiscal year (FY) 2015 and possibly later years. NIDILRR is under no obligation to make an award under this priority. The decision to make an award will be based on the quality of applications received and available funding. NIDILRR may publish additional priorities, as needed.

Invitation to Comment: We invite you to submit comments regarding this proposed priority. To ensure that your comments have maximum effect in developing the final priority, we urge you to identify clearly the specific topic within the priority that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments by following the instructions found under the “Are you new to the site?” portion of the Federal eRulemaking Portal at wwww.regulations.gov. Any comments sent to NIDILRR via postal mail or commercial delivery can be viewed in Room 5142, 550 12th Street SW., PCP, Washington, DC, between the hours of 8:30 a.m. and 4 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas as specified by NIDILRR. These activities are designed to benefit rehabilitation service providers, individuals with disabilities, family members, policymakers and other research stakeholders. Additional information on the RRTC program can be found at: http://www2.ed.gov/programs/rrtc/index.html#types.

Program Authority: 29 U.S.C. 762(g) and 764(b)(2).

Applicable Program Regulations: 34 CFR part 350.

Proposed Priority: This notice contains one proposed priority.

RRTC on Employer Practices Leading to Successful Employment Outcomes for Individuals With Disabilities

Background: Individuals with disabilities experience lower rates and quality of employment than those without disabilities. The percentage of the population that is employed is lower for individuals with disabilities (17.6%) than for individuals without disabilities (64.0%), and this difference has been relatively stable since 2012 (U.S. Department of Labor, 2014a, 2014b). Of those individuals who are employed, individuals with disabilities are more likely to work part time (34%) than are individuals without disabilities (19%) (U.S. Department of Labor, 2014a), and individuals with disabilities earn less than do individuals without disabilities (Brault, 2012; Schur et al., 2009; U.S. Department of Commerce, 2013). In addition, employees with disabilities have more limited opportunities for experiences related to retention and advancement, such as training and participation in decision-making, and less job security (Schur et al., 2009).

Although the employment of individuals with disabilities is the result of a complex interaction among many variables, employer practices comprise an important factor in the employment of individuals with disabilities. In recent years, researchers (Bruyère & Barrington, 2012; Chan et al., 2010a) have recognized the importance of considering demand-side, i.e., employer, variables to understand and decrease the difference in employment outcomes between individuals with and without disabilities. In addition, a number of Federal initiatives have highlighted the need for employers to change their practices to improve employment outcomes for individuals with disabilities (e.g., new regulations for Section 503 of the Rehabilitation Act, establishing nationwide 7% employment goals for qualified individuals with disabilities for companies doing business with the Federal government; Executive Order 13548 (2010), “Increasing Federal Employment of Individuals with Disabilities”).

A number of employer practices are associated with better employment outcomes (i.e., hiring, retention, or advancement) for individuals with disabilities. These include, but are not limited to: Employer knowledge of the Americans with Disabilities Act, the inclusion of disability in employer diversity plans, diversity training for management, targeted recruitment, and employer-provided accommodations (Bruyère & Barrington, 2012; Chan et al., 2010b; Hirsh & Kmec, 2009; Schur et al., 2009). Factors associated with employment of individuals with disabilities vary by employer size, industry type, and sector of the economy (U.S. Department of Labor, 2008; Bruyère & Barrington, 2012; Fraser et al., 2010).

However, knowledge of employer practices that are associated with better employment outcomes for individuals with disabilities does not tell us whether those practices actually caused those outcomes (Bruyère & Barrington, 2012; Fraser et al., 2011). In addition to the need for a stronger evidence base for the effectiveness of promising employer practices, there is a need for the development of measures that employers can use to track employment outcomes for individuals with disabilities (Erickson et al., 2013; Von Schrader et al., 2013). Both of these types of knowledge are critical to the development of effective workplace programs and practices to improve employment outcomes for individuals with disabilities.

References

Brault, M. W. (2012). Americans with disabilities: 2010. U.S. Department of Commerce, Economics and Statistics Administration, US Census Bureau.

Bruyère, S. M., & Barrington, L. (2012). Current issues, controversies, and solutions. In S.M. Bruyère and L. Barrington, (Eds.), Employment and work. Sage Publications.

Chan, F., Strauser, D., Gervey, R., & Lee, E-J. (2010a). Introduction to demand-side factors related to employment of people with disabilities. Journal of Occupational Rehabilitation, 20, 407-411.

Chan, F., Straser, D., Maher, P., Lee, E-J., Jones, R., & Johnson, E. T. (2010b). Demand-side factors related to employment of people with disabilities: A survey of employers in the Midwest region of the United Sates. Journal of Occupational Rehabilitation, 20, 412-419.

Erickson, W. A., von Schrader, S., Bruyère, S. M., & VanLooy, S. A. (2013). The employment environment: Employer perspectives, policies, and practices regarding the employment of persons with disabilities. Rehabilitation Counseling Bulletin, 0034355213509841.

Exec. Order No. 13548, 3 C. F. R. 168 (2010).

Fraser, R. T., Johnson, K., Hebert, J., Ajzen, I., Copeland, J., Brown, P., & Chan, F. (2010). Understanding employers' hiring intentions in relation to qualified workers with disabilities: Preliminary findings. Journal of Occupational Rehabilitation, 20(4), 420-426.

Fraser, R., Ajzen, I., Johnson, K., Hebert, J., & Chan, F. (2011). Understanding employers' hiring intention in relation to qualified workers with disabilities. Journal of Vocational Rehabilitation, 35(1), 1-11.

Hirsh, E., & Kmec, J. A. (2009). Human resource structures: Reducing discrimination or raising rights awareness?. Industrial Relations: A Journal of Economy and Society, 48(3), 512-532.

Schur, L., Kruse, D., Blasi, J., & Blanck, P. (2009). Is disability disabling in all workplaces? Workplace disparities and corporate culture. Industrial Relations: A Journal of Economy and Society, 48(3), 381-410.

Von Schrader, S., Malzer, V., & Bruyère, S. (2013). Perspectives on disability disclosure: The importance of employer practices and workplace climate. Employee Responsibilities and Rights Journal, 26(4), 237-255.

U.S. Department of Commerce, U.S. Census Bureau. (2013). Selected economic characteristics for the civilian noninstitutionalized population by disability status. 2013 American Community Survey 1-year estimates. http://factfinder2.census.gov/faces/tableservices/jsf/pages/productview.xhtml?pid=ACS_13_1YR_S1811&prodType=table Retrieved November 19, 2014.

U.S. Department of Labor, Bureau of Labor Statistics (2014a). Persons with A Disability: Labor Force Characteristics—2013. Available at http://www.bls.gov/news.release/pdf/disabl.pdf Retrieved November 14, 2014.

U.S. Department of Labor, Bureau of Labor Statistics (2014b). Table A6. Employment status of the civilian population by sex, age, and disability status, not seasonally adjusted. Available at http://www.bls.gov/news.release/empsit.t06.htm Retrieved November 19, 2014.

U.S. Department of Labor, Office on Disability Employment Policy (2008). Survey of Employer Perspectives on the Employment of People with Disabilities. Technical report. Available at http://www.dol.gov/odep/documents/survey_report_jan_09.doc. Retrieved February 2, 2015.

Definitions: The research that is proposed under this priority must be focused on one or more stages of research. If the RRTC is to conduct research that can be categorized under more than one research stage, or research that progresses from one stage to another, those research stages must be clearly specified. For purposes of this priority, the stages of research are from the notice of final priorities and definitions published in the Federal Register on June 7, 2013 (78 FR 34261).

(a) Exploration and Discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities.

(b) Intervention Development means the stage of research that focuses on generating and testing interventions that have the potential to improve outcomes for individuals with disabilities. Intervention development involves determining the active components of possible interventions, developing measures that would be required to illustrate outcomes, specifying target populations, conducting field tests, and assessing the feasibility of conducting a well-designed interventions study. Results from this stage of research may be used to inform the design of a study to test the efficacy of an intervention.

(c) Intervention Efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

(d) Scale-Up Evaluation means the stage of research during which a project analyzes whether an intervention is effective in producing improved outcomes for individuals with disabilities when implemented in a real-world setting. During this stage of research, a project tests the outcomes of an evidence-based intervention in different settings. It examines the challenges to successful replication of the intervention, and the circumstances and activities that contribute to successful adoption of the intervention in real-world settings. This stage of research may also include well-designed studies of an intervention that has been widely adopted in practice, but that lacks a sufficient evidence-base to demonstrate its effectiveness.

Proposed Priority: The Administrator for Community Living proposes a priority for an RRTC on Employer Practices Leading to Successful Employment Outcomes for Individuals with Disabilities. The purpose of the RRTC is to generate new knowledge about effective employer practices that support successful employment outcomes for individuals with disabilities. The RRTC must contribute to improving the employment outcomes of individuals with disabilities by:

(a) Identifying promising employer practices most strongly associated with desired employment outcomes for individuals with disabilities as well as the prevalence of these practices. Practices should include those related to the hiring, retention, and advancement of individuals with disabilities.

(b) Developing measures of employment outcomes that include hiring, retention, and advancement of individuals with disabilities. These measures must be developed for use by employers and other stakeholders. These measures may also include employment quality, such as, but not limited to, earnings, full- or part-time employment, or opportunities for on-the-job training. In developing these measures, the RRTC must collaborate with the NIDILRR-funded RRTC on Employment Policy and Measurement.

(c) Generating new knowledge of the effectiveness of promising employer practices by identifying or developing, and then implementing and evaluating pilot workplace program(s) based on practices identified in (a). This work should be conducted in employment settings in collaboration with employers, and should include:

(1) Implementation of practices that are particularly likely to be effective in improving employment outcomes for individuals with disabilities;

(2) Implementation of practices among different types of employers (e.g., small v. large employers, private v. public sector employers);

(3) Collection of data using, but not limited to, outcome measures from (b) above.

(d) Focusing its research on one or more specific stages of research. If the RRTC is to conduct research that can be categorized under more than one of the research stages, or research that progresses from one stage to another, those stages should be clearly justified.

(e) Serving as a national resource center related to employment for individuals with disabilities, their families, and other stakeholders by conducting knowledge translation activities that include, but are not limited to:

(1) Providing information and technical assistance to employers, employment service providers, employer groups, individuals with disabilities and their representatives, and other key stakeholders;

(2) Providing training, including graduate, pre-service, and in-service training, to employers and employer groups, to facilitate more effective employer practices for individuals with disabilities. This training may be provided through conferences, workshops, public education programs, in-service training programs, and similar activities;

(3) Disseminating research-based information and materials related to increasing employment levels for individuals with disabilities; and

(4) Involving key stakeholder groups in the activities conducted under paragraphs (a) and (b) of this priority to promote the new knowledge generated by the RRTC.

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register or in a Funding Opportunity Announcement posted at www.grants.gov.

Executive Orders 12866 and 13563

Regulatory Impact Analysis

Under Executive Order 12866, the Secretary must determine whether this regulatory action is “significant” and, therefore, subject to the requirements of the Executive Order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive Order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits would justify its costs. In choosing among alternative regulatory approaches, we selected those approaches that would maximize net benefits. Based on the analysis that follows, the Department believes that this proposed priority is consistent with the principles in Executive Order 13563.

We also have determined that this regulatory action would not unduly interfere with State, local, and tribal governments in the exercise of their governmental functions.

In accordance with both Executive Orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to one envisioned by the proposed priority have been completed successfully, and the proposed priority would generate new knowledge through research. The new RRTC would generate, disseminate, and promote the use of new information that would improve outcomes for individuals with disabilities in the area of employment.

Intergovernmental Review: This program is not subject to Executive Order 12372.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 19, 2015.
Kathy Greenlee,
Administrator.

[FR Doc. 2015-03877 Filed 2-24-15; 8:45 am]

BILLING CODE 4154-01-P